DEPARTMENT OF COMMERCE

International Trade Administration

19 CFR Part 351

[Docket No. 140929814-6136-02]

RIN 0625-AB02

Correction to Applicability Date for Modification of Regulations Regarding Price Adjustments in Antidumping Duty Proceedings

AGENCY: Enforcement and Compliance, International Trade Administration, Department of Commerce.

ACTION: Final rule.

SUMMARY: The Department of Commerce (the Department) is modifying the applicability date contained in the final rule published in the Federal Register on March 24, 2016. The original applicability date language did not convey the Department's intention, i.e., to apply the newly amended regulations to all segments of proceedings initiated on or after the effective date contained in the rule. This action is necessary to ensure that there is no ambiguity in the application of the modified regulations.

DATES: Effective date: September 1, 2016.

Applicability date: This rule will apply to all segments of proceedings initiated on or after September 1, 2016.

FOR FURTHER INFORMATION CONTACT: Jessica Link at (202) 482-1411.

SUPPLEMENTARY INFORMATION: On March 24, 2016, the Department published a final rule in the Federal Register modifying 19 CFR 351.102(b)(38) and 19 CFR 351.401(c). Modification of Regulations Regarding Price Adjustments in Antidumping Duty Proceedings, 81 FR 15641 (March 24, 2016) (Final Rule). The DATES section of the Final Rule states: “Effective date: April 25, 2016. Applicability date: This rule will apply to all proceedings initiated on or after April 25, 2016.”

On June 20, 2016, the Department published a proposed rule to correct the applicability date of the Final Rule. See Correction to Applicability Date for Modification of Regulations Regarding Price Adjustments in Antidumping Duty Proceedings, 81 FR 39873 (June 20, 2016). In its proposed rule, the Department explained that the applicability date in the Final Rule does not convey the Department's intention, i.e., to apply the newly amended regulations to all segments of proceedings initiated on or after the effective date of the Final Rule. The Department further explained that, although “proceedings” can be interpreted generally to include any segment of an administrative case before Enforcement and Compliance that is initiated on or after the effective date, “proceeding” and “segment of proceeding” are defined separately in 19 CFR 351.102(b)(40) and 19 CFR 351.102(b)(47), respectively. Thus, to avoid any ambiguity and to clarify the Department's intent, the Department proposed to modify the applicability date of the Final Rule such that the Final Rule will apply to all segments of proceedings initiated on or after 30 days following the publication date of the final rule that results from this rulemaking.

The Department received no comments on the proposed rule. Thus, the Department is modifying the applicability date of the Final Rule as discussed above. As the prior applicability date was not included in the modified regulations, 19 CFR 351.102(b)(38) and 19 CFR 351.401(c), the Department is not amending its regulations. The only change to the Final Rule being addressed in this final rule is a change to the applicability date of the Final Rule.

Changes From the Proposed Rule

There are no changes from the proposed rule.

Classification

Executive Order 12866

It has been determined that this final rule is not significant for purposes of Executive Order 12866.

Paperwork Reduction Act

This final rule contains no new collection of information subject to the Paperwork Reduction Act, 44 U.S.C. Chapter 35.

Executive Order 13132

This final rule does not contain policies with federalism implications as that term is defined in section 1(a) of Executive Order 13132, dated August 4, 1999 (64 FR 43255 (August 10, 1999)).

Regulatory Flexibility Act

In accordance with the Regulatory Flexibility Act, 5 U.S.C. 601 et seq., the Chief Counsel for Regulation at the Department of Commerce certified to the Chief Counsel for Advocacy, Small Business Administration, at the proposed rule stage that this rule would not have a significant economic impact on a substantial number of small entities. The factual basis for this certification was published with the proposed rule and is not repeated here. No comments were received regarding the certification or on the economic impact of this rule more generally. As a result, the conclusion in the certification memorandum for the proposed rule remains unchanged and a final regulatory flexibility analysis is not required and one has not been prepared.

Dated: July 27, 2016.
Ronald K. Lorentzen,
Acting Assistant Secretary for Enforcement and Compliance.

[FR Doc. 2016-18305 Filed 8-1-16; 8:45 am]

BILLING CODE 3510-DS-P